DEPARTMENT OF JUSTICE

Office of the Attorney General

28 CFR Part 0

[Docket No. OAG 128; A.G. Order No. 3085-2009]

Organization; Office of Information Policy

AGENCY: Department of Justice.

ACTION: Final rule.

SUMMARY: This rule updates the regulation that describes the structure, functions, and responsibilities of the Office of Information Policy of the Department of Justice. The rule updates the description of the Office to reflect certain changes to its structure and organizational location.

DATES: Effective Date: June 19, 2009.

FOR FURTHER INFORMATION CONTACT: Janice Galli McLeod, Associate Director, Office of Information Policy, U.S. Department of Justice, Washington, DC 20530, (202) 514-3642.

SUPPLEMENTARY INFORMATION: This rule revises the Department's description of the Office of Information Policy to reflect the Office's establishment as a separate component within the Department of Justice. References to the advice and training formerly provided by the Office of Information Policy on Privacy Act matters have been deleted in light of the performance of those tasks by the recently created Office of Privacy and Civil Liberties.

Administrative Procedure Act

This rule relates to a matter of agency management or personnel and therefore is exempt from the usual requirements of prior notice and comment and a 30-day delay in effective date. See 5 U.S.C. 553(a)(2).

Regulatory Flexibility Act

The Attorney General, in accordance with the Regulatory Flexibility Act, 5 U.S.C. 605(b), has reviewed this rule and, by approving it, certifies that it will not have a significant economic impact on a substantial number of small entities because it pertains to personnel and administrative matters affecting the Department. A Regulatory Flexibility Analysis was not required to be prepared for this final rule because the Department was not required to publish a general notice of proposed rulemaking for this matter.

Executive Order 12866

This rule has been drafted and reviewed in accordance with Executive Order 12866, “Regulatory Planning and Review,” section 1(b), “Principles of Regulation.” This rule is limited to agency organization, management, and personnel as described by Executive Order 12866 section 3(d)(3) and, therefore, is not a “regulation” or “rule” as defined by that Executive Order. Accordingly, this rule has not been reviewed by the Office of Management and Budget.

Executive Order 13132

This rule will not have substantial direct effects on the States, on the relationship between the national government and the States, or on the distribution of power and responsibilities among the various levels of government. Therefore, in accordance with Executive Order 13132, “Federalism,” the Department of Justice has determined that this rule does not have sufficient federalism implications to warrant the preparation of a federalism summary impact statement.

Executive Order 12988

This rule meets the applicable standards provided in sections 3(a) and 3(b)(2) of Executive Order 12988, “Civil Justice Reform.”

Unfunded Mandates Reform Act of 1995

This rule will not result in the expenditure by state, local, and tribal governments, in the aggregate, or by the private sector, of $100 million or more in any one year, and it will not significantly or uniquely affect small governments. Therefore, no actions were deemed necessary under the provisions of the Unfunded Mandates Reform Act of 1995, 2 U.S.C. 1501 et seq.

Small Business Regulatory Enforcement Fairness Act of 1996

This rule is not a major rule as defined by section 251 of the Small Business Regulatory Enforcement Fairness Act of 1996, 5 U.S.C. 804. This rule will not result in an annual effect on the economy of $100 million or more; a major increase in cost or prices; or significant adverse effects on competition, employment, investment, productivity, innovation, or the ability of United States-based companies to compete with foreign-based companies in domestic and export markets.

This action pertains to agency management, personnel, and organization and does not substantially affect the rights or obligations of non-agency parties. Accordingly, it is not a “rule” for purposes of the reporting requirement of 5 U.S.C. 801.

Congressional Review Act

This action pertains to agency organization and management and does not substantially affect the rights or obligations of non-agency parties. Accordingly, it is not a “rule” as that term is used by the Congressional Review Act (Subtitle E of the Small Business Regulatory Enforcement Fairness Act of 1996 (SBREFA)). Therefore, the reporting requirement of 5 U.S.C. 801 does not apply.

List of Subjects in 28 CFR Part 0

Authority delegations (Government agencies), Government employees, Organization and functions (Government agencies).

Accordingly, by virtue of the authority vested in me as Attorney General, including 5 U.S.C. 301 and 28 U.S.C. 509 and 510, part 0 of title 28 of the Code of Federal Regulations is amended as follows:

PART 0—ORGANIZATION OF THE DEPARTMENT OF JUSTICE

1. The authority citation for part 0 continues to read as follows:

Authority: 5 U.S.C. 301; 28 U.S.C. 509, 510, 515-19.

§ 0.23a [Redesignated as § 0.24]

2. Section 0.23a, currently under Subpart D-2, is redesignated as § 0.24, transferred to new Subpart D-3, and revised to read as follows:

Subpart D-3—Office of Information Policy

§ 0.24 General functions.

The Office of Information Policy shall be headed by a Director appointed by the Attorney General. The Director shall report to the Associate Attorney General. The following functions are assigned to, and shall be conducted, handled, or supervised by the Director of the Office of Information Policy:

(a) Exercising the power and performing the functions vested in the Attorney General under 5 U.S.C. 552(e).

(b) Developing, coordinating, and implementing policy with regard to the Freedom of Information Act (“FOIA”), including publishing guidance and other material related to FOIA matters;

(c) Providing legal assistance and advice to government agencies and organizational components of the Department on questions regarding the interpretation and application of the FOIA;

(d) Undertaking, arranging, or supporting training and informational programs concerning the FOIA for government agencies and the Department;

(e) Responding to initial requests made under the FOIA and the Privacy Act for the Office of Information Policy, as well as for the following Leadership Offices:

(i) Office of the Attorney General;

(ii) Office of the Deputy Attorney General;

(iii) Office of the Associate Attorney General;

(iv) Office of Legal Policy;

(v) Office of Legislative Affairs;

(vi) Office of Public Affairs;

(vii) Office of Intergovernmental and Public Liaison; and

(viii) Any other Department component that the Attorney General assigns to the Office of Information Policy for responding to requests made to such component under the FOIA and the Privacy Act.

(f) Acting on behalf of the Attorney General on FOIA and Privacy Act access administrative appeals for all components of the Department, except that a denial of a request by the Attorney General is the final action of the Department on that request;

(g) Representing government agencies in civil litigation claims arising under the FOIA through and under the direction of the United States Attorney's Office for the District of Columbia and any such other districts as may be designated;

(h) Providing staff support to the Department Review Committee, established by § 17.14 of this chapter; and

(i) Encouraging all Federal agencies that intend to deny FOIA requests raising novel issues to consult with the Office of Information Policy to the extent practicable.

Dated: June 12, 2009.
Eric H. Holder, Jr.,
Attorney General.

[FR Doc. E9-14413 Filed 6-18-09; 8:45 am]

BILLING CODE 4410-BE-P